NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 26, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: (301) 837-3698.

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: (301) 837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-10-70, 1 item, 1 temporary item). Master files of electronic information systems related to supply and materiel life cycle management operations.

2. Department of the Army, Agency-wide (N1-AU-10-71, 1 item, 1 temporary item). Master files of an electronic information system used to project individual fillers and replacements into theaters of operation.

3. Department of the Army, Agency-wide (N1-AU-10-72, 1 item, 1 temporary item). Master files of an electronic information system used to manage official photographs of individuals for promotion purposes.

4. Department of the Army, Agency-wide (N1-AU-10-73, 1 item, 1 temporary item). Master files of an electronic information system used to track the movement of munitions from depots and plants to customers from the military services.

5. Department of the Army, Agency-wide (N1-AU-10-74, 1 item, 1 temporary item). Master files of an electronic information system that contains information used to validate troop readiness and certify personnel for deployments.

6. Department of the Army, Agency-wide (N1-AU-10-76, 1 item, 1 temporary item). Master files of an electronic information system used to track soldiers enrolled in the Wounded Warrior Lifecycle Program.

7. Department of Commerce, Bureau of the Census (N1-29-10-4, 15 items, 10 temporary items). Records of an electronic information system used to manage data collected for the Economic Census and the Annual Survey of Manufactures. Records include system and program code files, data input files, a variety of system processing files, and final data files preliminary in nature. Proposed for permanent retention are final data files containing the entire content of the Economic Census and Annual Survey of Manufactures, final aggregated data files, and data documentation.

8. Department of Health and Human Services, Administration for Children and Families (N1-292-10-2, 2 items, 2 temporary items). Master files of an electronic information system containing employment information used in enforcing state and Federal child support requirements.

9. Department of Homeland Security, Transportation Security Administration (N1-560-12-1, 2 items, 2 temporary items). Records of Family Medical Leave Act program files and case files containing reports, memos, agency communications, policy and guidance, employee applications, medical documentation, personnel actions, and correspondence.

10. Office of the Director of National Intelligence, Office of Systems and Resource Analyses (N1-576-11-1, 13 items, 7 temporary items). Records related to calendars, operative and facilitative activities, reference files, internal briefings and speeches, internal and external web page material, and non-substantive working papers and drafts. Proposed for permanent retention are records related to final reports, external briefings and speeches, major issues and foundational studies working groups and other senior bodies, and substantive working papers.

11. Office of the Director of National Intelligence, Office of the Assistant Director of National Intelligence for Acquisition, Technology, and Facilities (N1-576-11-6, 16 items, 11 temporary items). Records relating to general incoming correspondence, staff-level working groups and committees, advisory program background information, non-substantive working papers, facility and operating files, reference files, supervisor copies of personnel files, applications for employment, preliminary budget background records, and calendars. Proposed for permanent retention are correspondence management files and master files of an electronic information system used to manage correspondence; records documenting the work of boards, committees, and working groups at the senior level; records documenting activities with direct effect on the National Intelligence Program; and substantive working papers.

Dated: December 20, 2011.
Paul M. Wester, Jr.,
Chief Records Officer for the U.S. Government.

[FR Doc. 2011-33117 Filed 12-23-11; 8:45 am]

BILLING CODE 7515-01-P